DEPARTMENT OF THE INTERIOR

Minerals Management Service

[Docket ID: MMS-2008-OMM-0032]

MMS Information Collection Activity: 1010-0164 (Damage Caused by Hurricanes), Extension of a Collection; Submitted for Office of Management and Budget Review; Agency Information Collection Activities: Proposed Collection; Comment Request

AGENCY: Minerals Management Service (MMS), Interior.

ACTION: Notice of an extension of an information collection (1010-0164).

SUMMARY: To comply with the Paperwork Reduction Act of 1995 (PRA), MMS is inviting comments on a collection of information that we will submit to the Office of Management and Budget for review and approval. The information collection request concerns the paperwork requirements in the regulations under 30 CFR 250, Subpart I, Platforms and Structures, Notice to Lessees and Operators—Damage Caused by Hurricane(s). This request covers damage due to any hurricane(s) that may occur in the Gulf of Mexico over the next 3 years.

DATE: Submit written comments by September 8, 2008.

FOR FURTHER INFORMATION CONTACT: Cheryl Blundon, Regulations and Standards Branch at (703) 787-1607. You may also contact Cheryl Blundon to obtain a copy, at no cost, of the regulation and the Notice to Lessees and Operators that requires the subject collection of information.

ADDRESSES: You may submit comments by either of the following methods listed below.

• Electronically: go to http://www.regulations.gov. Under the tab More Search Options, click Advanced Docket Search, then select Minerals Management Service from the agency drop-down menu, then click submit. In the Docket ID column, select MMS-2008-OMM-0032 to submit public comments and to view supporting and related materials available for this rulemaking. Information on using Regulations.gov, including instructions for accessing documents, submitting comments, and viewing the docket after the close of the comment period, is available through the site's User Tips link. The MMS will post all comments.

• Mail or hand-carry comments to the Department of the Interior; Minerals Management Service; Attention: Cheryl Blundon; 381 Elden Street, MS-4024; Herndon, Virginia 20170-4817. Please reference Information Collection 1010-0164 in your subject line and mark your message for return receipt. Include your name and return address in your message text.

SUPPLEMENTARY INFORMATION: Title: 30 CFR Part 250, Subpart I, Platforms and Structures, Notice to Lessees and Operators (NTL)—Damage Caused by Hurricane(s).

OMB Control Number: 1010-0164.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner which is consistent with the need to make such resources available to meet the Nation's energy needs as rapidly as possible; to balance orderly energy resource development with protection of human, marine, and coastal environments; to ensure the public a fair and equitable return on the resources of the OCS; preserve and maintain free enterprise competition; and ensure that the extent of oil and natural gas resources of the OCS is assessed at the earliest practicable time. Section 43 U.S.C. 1332(6) states that

“operations in the outer Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.”

To carry out these responsibilities, Minerals Management Service (MMS) issues regulations to ensure that operations in the OCS will meet statutory requirements; provide for safety and protect the environment; and result in diligent exploration, development, and production of OCS leases. In addition, we also issue NTLs that provide clarification, explanation, and interpretation of our regulations. These NTLs are used to convey purely informational material and to cover situations that might not be adequately addressed in our regulations. The latter is the case for the information collection required in the NTL. Because of the unusual nature of this information collection, issuing a temporary NTL is the appropriate means to collect the information.

The subject of this information collection request (ICR) is an NTL titled, Damage Caused by Hurricane(s) to be issued to lessees and operators in the MMS Gulf of Mexico OCS (GOM) Region after a hurricane occurs. This ICR deal with damage to facilities due to any hurricane(s) that may occur in the GOM. Once this ICR is approved by OMB, MMS will reissue the NTL for each new future hurricane that impacts operations in the GOM with MMS inserting the appropriate hurricane name, longitudes, and dates of submittal, etc.

Currently, there are over 4,000 facilities/structures in the GOM OCS. The MMS anticipates that potential major hurricanes may impact 40 percent or more of the platforms in the GOM (1,600 facilities) during any one event. For example, in 2005, Hurricanes Katrina and Rita combined affected approximately 2,900 OCS facilities—only 10 facilities were affected by both storms; they each followed different paths and had their own specific meteorological anomalies (deviation or departure from the normal phenomena of the atmosphere). It needs to be stressed that the information we collect under this NTL is information that a prudent lessee/operator would prepare in the event of a major hurricane. The primary authority for this submission is 30 CFR Part 250, Subpart I, Platform and Structures, information collection approved under the OMB Control Number 1010-0149. However, in connection with this subpart, MMS believes that the burden hour requirements in the proposed NTL are in addition to the currently approved paperwork burden under those requirements.

With regard to the OCS Pipelines section of this NTL, MMS has the authority to collect the information requested under 30 CFR Part 250, Subpart J, Pipelines and Pipeline Rights-of-Way. The OMB has already approved the collection of pipeline information under OMB Control Number 1010-0050.

Emergency NTLs were issued relating to this same subject—structural damage caused by hurricanes—in 2003 after Hurricane Lili, in 2004 after Hurricane Ivan, and in 2005 after Hurricanes Katrina and Rita. Due to the nature of these incidents and their increasing occurrences, immediately after Hurricane Ivan, proposed rulemaking was started to require lessees to submit to MMS information about structure damage on the OCS due to natural phenomena, e.g., hurricanes, earthquakes. The final rule is currently in the surnaming process and OMB has issued Regulation Identifier Number 1010-AD18.

We will protect information from respondents considered proprietary under the Freedom of Information Act (5 U.S.C. 552) and its implementing regulations (43 CFR part 2) and under regulations at 30 CFR 250.197, Data and information to be made available to the public or for limited inspection. No items of a sensitive nature are collected. Responses are mandatory.

Frequency: Monthly; and as specified in the NTL.

Estimated Number and Description of Respondents: Approximately 130 Federal OCS oil and gas lessees.

Estimated Reporting and Recordkeeping Hour Burden: The currently approved annual reporting burden for this collection is 26,880 hours. The following chart details the individual components and respective hour burden estimates of this ICR. In calculating the burdens, we assumed that respondents perform certain requirements in the normal course of their activities. We consider these to be usual and customary and took that into account in estimating the burden.

Reporting requirement | Hour burden
Prepare and submit to MMS: (1) List of impacted OCS structures, (2) timetable for inspections, and (3) inspection plan for each listed platform describing work to determine condition of structure | 12
Submit amendments to list and inspection plans | 12
Submit report to MMS describing detected damage that may adversely affect structural integrity, including assessment of ability to withstand anticipated environmental storm conditions, and any remediation plans | 120

Estimated Reporting and Recordkeeping Non-Hour Cost Burden: We have identified no non-hour cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency

“* * * to provide notice * * * and otherwise consult with members of the public and affected agencies concerning each proposed collection of information * * *”.

Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz, (202) 208-7744.

Dated: June 26, 2008.
E.P. Danenberger,
Chief, Office of Offshore Regulatory Programs.

[FR Doc. E8-15497 Filed 7-8-08; 8:45 am]

BILLING CODE 4310-MR-P